POSTAL REGULATORY COMMISSION

[Docket No. PI2022-1; Order No. 6101]

Public Inquiry on Resolving Suspended Post Offices

AGENCY: Postal Regulatory Commission.

ACTION: Notice.

SUMMARY: The Commission is initiating a public inquiry proceeding to identify and address issues impeding the Postal Service's progress in resolving suspended post offices. This document informs the public of this proceeding, invites public comment, and takes other administrative steps.

DATES: Comments are due: April 29, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Comments

IV. Ordering Paragraphs

I. Introduction

The Commission establishes this public inquiry proceeding to identify and address issues impeding the Postal Service's progress in resolving suspended post offices in a timely manner. Specifically, the Commission seeks input from the public regarding suggested procedures or courses of action for how the Postal Service may expeditiously resolve suspended post offices. The Commission welcomes comments with any data analysis related to suspended post offices, including, but not limited to, the spatial analysis of suspended post offices.¹

¹ Spatial analysis is a diverse and comprehensive capability that includes the simple visual analysis of maps and imagery, computational analysis of geographic patterns, finding optimum routes, site selection, and advanced predictive modeling. ESRI, The Language of Spatial Analysis, available at https://www.esri.com/content/dam/esrisites/sitecore-archive/Files/Pdfs/library/books/the-language-of-spatial-analysis.pdf, at 6.

II. Background

The Postal Accountability and Enhancement Act (PAEA) ² requires the Postal Service to include in its Annual Compliance Report (ACR) “measures of the quality of service afforded by the Postal Service in connection with [each Market Dominant] product, including . . . the degree of customer satisfaction with the service provided.” 39 U.S.C. 3652(a)(2)(B)(ii). As part of its annual reporting concerning customer satisfaction, the Postal Service must report information concerning suspended post offices. See 39 CFR 3055.91(a)(4)-0 (6). A suspension occurs when the Postal Service stops operations at a post office due to an emergency or similar situation. See 39 CFR 241.3(a)(5)(i)(B). The Postal Service resolves a suspension by either discontinuing or reopening the post office.

² Public Law 109-435, 120 Stat. 3198 (2006).

The Commission has monitored the Postal Service's progress in resolving suspensions for multiple fiscal years, primarily via its ACR review proceedings. At the end of FY 2016, there were 662 suspended post offices.³ Of these post offices, 206 remained suspended at the end of FY 2021. Id. at 80. In addition, the Postal Service reports in the FY 2021 ACR that it suspended 247 other post offices between FY 2017 and FY 2021,⁴ for a total of 453 post offices suspended at the end of 2021.⁵

³ Docket No. ACR2021, United States Postal Service FY 2021 Annual Compliance Report, December 29, 2021, at 79.

⁴ See Docket No. ACR2021, Library Reference USPS-FY21-33, December 29, 2021, folder “USPS.FY21.33.Files,” Excel file “PostOfficesFY2021.xlsx,” tab “Suspension Summary,” cell I17.

⁵ The numbers in this order reflect the most up-to-date numbers provided by the Postal Service in the FY 2021 ACR, FY 2021 post office suspension quarterly reports, and Library Reference USPS-FY21-33. CHIRs were issued in Docket No. ACR2021 to reconcile these numbers, and the Commission will provide updated numbers in the upcoming FY 2021 ACD.

In its FY 2016 ACD, the Commission stated that it expected the Postal Service to significantly reduce the number of suspended post offices.⁶ In its FY 2020 ACD, the Commission expressed concern regarding the apparent lack of commitment by the Postal Service in addressing and resolving suspended post offices in recent years and announced its intent to initiate a public inquiry docket on the matter.⁷ Accordingly, the Commission establishes this proceeding to identify and address issues impeding the Postal Service's progress in resolving suspended post offices in a timely manner.

⁶ Docket No. ACR2016, Postal Regulatory Commission, Annual Compliance Determination Report Fiscal Year 2016, March 28, 2017, at 151.

⁷ Docket No. ACR2020, Postal Regulatory Commission, Annual Compliance Determination Report Fiscal Year 2020, March 29, 2021, at 221.

III. Comments

The Commission invites comments on suggested procedures or courses of action that would allow for the Postal Service to expeditiously resolve the 206 suspended post offices remaining from FY 2016, with a special focus on the post offices that have been suspended for more than 5 years.

The Commission also invites comments on how the Postal Service should resolve the post offices suspended after FY 2016. The Commission encourages the commenters to discuss specific issues related to the recent suspension of post offices (after FY 2019). These comments should focus on facilitating the process for resolving the backlog of suspended post offices, as well as prevent such backlogs from recurring.

The scope of this proceeding is limited to the Postal Service's process for resolving suspended post offices as a whole. This proceeding does not cover ancillary issues, including concerns about individual post offices and the Commission's jurisdiction to consider post office closing appeals. The Commission, however, welcomes comments with any data analysis related to the suspended post offices, including, but not limited to, the spatial analysis of the suspended post offices. Comments are due on April 29, 2022. Material filed in this docket—including tables, figures and library references—will be available for review on the Commission's website, http://www.prc.gov.

Pursuant to 39 U.S.C. 505, Kenneth R. Moeller will serve as an officer of the Commission (Public Representative) to represent the interests of the general public in this docket.

IV. Ordering Paragraphs

It is ordered:

1. The Commission establishes Docket No. PI2022-1 to identify and address issues impeding the Postal Service's progress in resolving suspended post offices in a timely manner.

2. Interested persons may submit written comments no later than April 29, 2022.

3. Pursuant to 39 U.S.C. 505, Kenneth R. Moeller will serve as an officer of the Commission (Public Representative) to represent the interests of the general public in this proceeding.

4. The Secretary shall arrange for publication of a general statement as to the basis and purpose of this Notice in the Federal Register.

By the Commission.
Erica A. Barker,
Secretary.

[FR Doc. 2022-02886 Filed 2-9-22; 8:45 am]

BILLING CODE 7710-FW-P